SUSQUEHANNA RIVER BASIN COMMISSION

Projects Approved for Minor Modifications

AGENCY: Susquehanna River Basin Commission.

ACTION: Notice.

SUMMARY: This notice lists the minor modifications approved for a previously approved project by the Susquehanna River Basin Commission during the period set forth in DATES.

DATES: January 1, 2024-February 29, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax (717) 238-2436; email: joyler@srbc.net. Regular mail inquiries may be sent to the above address.

SUPPLEMENTARY INFORMATION: This notice lists previously approved projects, receiving approval of minor modifications, described below, pursuant to 18 CFR 806.18 or to Commission Resolution Nos. 2013-11 and 2015-06 for the time period specified above.

1. Koppers Inc., Docket No. 20231209, Clinton Township, Lycoming County, Pa.; correction in Section 3 of source name; Correction Issue Date: January 9, 2024.

2. Dart Container Corporation of Pennsylvania, Docket No. 20040910-3, Upper Leacock Township, Lancaster County, Pa.; modification approval to add public water supply (Upper Leacock Township Municipal Authority) as an additional source of consumptive use, with no changes to existing quantities; Approval Date: February 23, 2024.

3. Murry Development Corporation—Crossgates Golf Club, Docket No. 20231223, Manor Township and Millersville Borough, Lancaster County, Pa.; modification approval to change the consumptive use mitigation method; Approval Date: February 29, 2024.

Authority: Public Law 91-575, 84 Stat. 1509 et seq., 18 CFR parts 806 and 808.

Dated: March 7, 2024.
Jason E. Oyler,
General Counsel and Secretary to the Commission.

[FR Doc. 2024-05197 Filed 3-11-24; 8:45 am]

BILLING CODE 7040-01-P